DEPARTMENT OF ENERGY

Federal Energy Regulatory Commission

Combined Notice of Filings

Take notice that the Commission has received the following Natural Gas Pipeline Rate and Refund Report filings:

Filings Instituting Proceedings

Docket Numbers: RP19-73-001.

Applicants: El Paso Natural Gas Company, L.L.C.

Description: Report Filing: Refund Report in Docket No. RP19-73 to be effective N/A.

Filed Date: 9/26/19.

Accession Number: 20190926-5050.

Comments Due: 5 p.m. ET 10/8/19.

Docket Numbers: RP19-1084-001.

Applicants: KO Transmission.

Description: KO Transmission Company submits tariff filing per 154.203: Order No. 587-Y Second Compliance Filing to be effective 8/1/2019 under RP19-1084.

Filed Date: 9/19/19.

Accession Number: 20190919-5062.

Comments Due: 5 p.m. ET 10/2/19.

Docket Numbers: RP19-1362-001.

Applicants: RH energytrans, LLC.

Description: RH energytrans, LLC submits tariff filing per 154.203: RH energytrans, LLC—Filing to Comply with Order Accepting Baseline Tariff to effective 9/1/29.

File Date: 9/18/19.

Accession Number: 20190918-5071.

Comments Due: 10/2/19.

Docket Numbers: RP19-1108-001.

Applicants: Wyckoff Gas Storage Company LLC.

Description: Wyckoff Gas Storage Company, LLC submits tariff filing per 154.203: Amended Order 587-Y Compliance to be effective 8/1/2019 under RP19-1108.

Filed Date: 9/20/19.

Accession Number: 20190920-5079.

Comments Due: 10/2/19.

Docket Numbers: RP16-1173-003.

Applicants: Greylock Pipeline, LLC.

Description: Greylock Pipeline, LLC submits tariff filing per 154.203: CP16-35-000 and the cost and revenue study to be effective N/A under RP16-1173.

Filed Date: 9/20/19.

Accession Number: 20190920-5027.

Comments Due: 10/2/19.

Docket Numbers: RP19-1595-000.

Applicants: Southern Natural Gas Company, L.L.C.

Description: § 4(d) Rate Filing: SNG Housekeeping Filing 2019 to be effective 11/1/2019.

Filed Date: 9/25/19.

Accession Number: 20190925-5007.

Comments Due: 5 p.m. ET 10/7/19.

Docket Numbers: RP19-1023-001.

Applicants: MIGC LLC.

Description: Compliance filing NAESB V3.1 (Order No. 587-Y) Compliance 2 to be effective 8/1/2019.

Filed Date: 9/26/19.

Accession Number: 20190926-5035.

Comments Due: 5 p.m. ET 10/8/19.

Docket Numbers: RP19-1598-000.

Applicants: Castex Offshore, Inc., et al. v. Stingra.

Description: Complaint, et al. of Castex Offshore, Inc., et al. under RP19-1598.

Filed Date: 9/26/19.

Accession Number: 20190926-5047.

Comments Due: 5 p.m. ET 10/8/19.

Docket Numbers: RP19-1599-000.

Applicants: Transcontinental Gas Pipe Line Company.

Description: § 4(d) Rate Filing: FOS—All Rate Schedules—email Notices to be effective 11/1/2019.

Filed Date: 9/26/19.

Accession Number: 20190926-5115.

Comments Due: 5 p.m. ET 10/8/19.

Docket Numbers: RP19-1600-000.

Applicants: Transcontinental Gas Pipe Line Company.

Description: Compliance filing 09-2019 Refund Report—Rate Schedule S-2 to be effective N/A.

Filed Date: 9/26/19.

Accession Number: 20190926-5123.

Comments Due: 5 p.m. ET 10/8/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 27, 2019.
Nathaniel J. Davis Sr.,
Deputy Secretary.

[FR Doc. 2019-21496 Filed 10-2-19; 8:45 am]

BILLING CODE 6717-01-P